DEPARTMENT OF HOMELAND SECURITY

Coast Guard

[Docket No. USCG-2022-0258]

National Maritime Security Advisory Committee; Vacancies

AGENCY: U.S. Coast Guard, Department of Homeland Security.

ACTION: Request for applications.

SUMMARY: The U.S. Coast Guard seeks applications to fill two member vacancies on the National Maritime Security Advisory Committee (Committee). This Committee provides advice and makes recommendations to the Secretary of Homeland Security, via the Commandant of the U.S. Coast Guard, on matters relating to national maritime security, including on enhancing the sharing of information related to cybersecurity risks that may cause a transportation security incident, between relevant Federal agencies and State, local, and tribal governments; relevant public safety and emergency response agencies; relevant law enforcement and security organizations; maritime industry; port owners and operators; and terminal owners and operators.

DATES: Your completed application should reach the U.S. Coast Guard on or before September 6, 2022.

ADDRESSES: Applications should include a cover letter expressing interest in an appointment to the National Maritime Security Advisory Committee and a resume detailing the applicant's relevant experience for the position applied for, with a brief biography. Incomplete applications will not be considered. Applications should be submitted via email with the subject line “Application for NMSAC” to ryan.f.owens@uscg.mil.

FOR FURTHER INFORMATION CONTACT: Mr. Ryan Owens, Alternate Designated Federal Officer of the National Maritime Security Advisory Committee; telephone: 202-372-1108 or email at ryan.f.owens@uscg.mil

SUPPLEMENTARY INFORMATION: The National Maritime Security Advisory Committee is a Federal advisory committee. The Committee was established on December 4, 2018, by § 602 of the Frank LoBiondo Coast Guard Authorization Act of 2018, Public Law 115-282, 132 Stat. 4192, and is codified in 46 U.S.C. 70112. The Committee operates under the provisions of the Federal Advisory Committee Act, (5 U.S.C. Appendix), and 46 U.S.C. 15109. The National Maritime Security Advisory Committee provides advice, consults with, and makes recommendations to the Secretary of Homeland Security, via the Commandant of the Coast Guard, on matters relating to national maritime security, including on enhancing the sharing of information related to cybersecurity risks that may cause a transportation security incident, between relevant Federal agencies and—

A. State, local, and tribal governments;

B. relevant public safety and emergency response agencies;

C. relevant law enforcement and security organizations;

D. maritime industry;

E. port owners and operators; and

F. terminal owners and operators.

The Committee is required to meet at least once a year in accordance with 46 U.S.C. 15109(a). We expect the Committee will hold meetings at least twice a year, but it may meet more frequently.

All members serve at their own expense and receive no salary or other compensation from the Federal Government. Members may be reimbursed for travel and per diem in accordance with Federal Travel regulations.

Under the provisions in 46 U.S.C. 15109(f)(6), if you are appointed as a member of the Committee, your membership term will expire on December 31 of the third full year after the effective date of your appointment. In this solicitation for Committee members, we will consider applications for two (2) positions:

• Facilities owners and operators.

• State and local governments.

Each member of the Committee must have particular expertise, knowledge, and experience in matters relating to the function of the Committee, which is to advise the Secretary of Homeland Security on the matters described above.

Consistent with 46 U.S.C. 15109(f)(4), Committee members are required to apply for, obtain, and maintain a government national security clearance at the Secret level. The U.S. Coast Guard will sponsor and assist candidates with this process.

In order for the Department, to fully leverage broad-ranging experience and education, the National Maritime Security Advisory Committee must be diverse with regard to professional and technical expertise. The Department is committed to pursuing opportunities, consistent with applicable law, to compose a committee that reflects the diversity of the nation's people.

If you are interested in applying to become a member of the Committee, email your cover letter and resume along with the brief biography to ryan.f.owens@uscg.mil via the transmittal method in the ADDRESSES section by the deadline in the DATES section of this notice.

Dated: August 1, 2022.
Amy M. Beach,
Captain, U.S. Coast Guard, Director of Inspections and Compliance.

[FR Doc. 2022-16823 Filed 8-4-22; 8:45 am]

BILLING CODE 9110-04-P